POSTAL SERVICE

Privacy Act of 1974; System of Records

AGENCY: Postal Service™.

ACTION: Notice of modification to existing system of records.

SUMMARY: The United States Postal Service® (Postal Service) is proposing to modify a General Privacy Act System of Records (SOR) to support the collection of additional information related to the Equal Employment Opportunity (EEO) discrimination complaint and appeals processes.

DATES: These revisions will become effective without further notice on June 26, 2015 unless comments received on or before that date result in a contrary determination.

ADDRESSES: Comments may be mailed or delivered to the Privacy and Records Office, United States Postal Service, 475 L'Enfant Plaza SW., Room 9517, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their systems of records in the Federal Register when there is a revision, change, or addition, or when the agency establishes a new system of records. The Postal Service™ has determined that one General Privacy Act System of Records should be revised to modify categories of individuals covered by the system, categories of records in the system, purpose(s), safeguards, system manager(s) and address, retention and disposal, notification procedure, and record source categories.

I. Background

The EEO process is a critical component of the Postal Service's efforts towards eliminating discrimination, facilitating dialogue, responding to employee concerns, and ensuring accountability. The Postal Service is responsible for oversight, implementation, and compliance with federal laws and regulations covering equal employment opportunity. To promptly and effectively resolve EEO complaints, the Postal Service will be revising its EEO forms to include the collection of employee personal contact information and Veteran's Preference eligibility.

II. Rationale for Changes to USPS Privacy Act Systems of Records

The Postal Service is proposing modifications to SOR 200.000. “Categories of individuals” is being amended to include contractors and individuals interested in providing contract investigative services for EEO complaints. This change is attributed to the development of the National EEO Investigative Service Office (NEEOISO), which now retains contractors that provide mediation, investigation, and final agency decision writer services that were previously provided by one or more Alternative Dispute Resolution (ADR) providers. Records pertaining to USPS employees who are candidates considered by promotion boards for an EEO staff position will be deleted because this information is now collected and maintained by the Human Resources Shared Service Center (HRSSC). All EEO promotion assignment considerations records are located at the HRSSC, covered under Privacy Act System of Records 100.200, Employee Performance Records, and available to EEO staff through the HRSSC database. “Categories of records” is being amended to reflect that the Postal Service will now collect additional information from employees and contractors involved in EEO discrimination complaints. The information will include the individuals' home address(es), phone number(s), email address(es), and Veteran's Preference eligibility. The collection of personal contact information will allow for employees and contractors to be contacted when it is most convenient for them, and the Veteran's Preference eligibility information will assist with determining if the same complaint was filed with the Merit Systems Protection Board (MSPB). The Postal Service is also adding contractor provider information and will collect information related to mediation service providers, contract investigators, and contract final agency decision writers.

“Purpose(s)” is being modified to clarify the specific types of contractors that provide EEO resolution services that were previously performed by alternative dispute resolution (ADR) providers before the development of the NEEOISO. “Safeguards” is being updated to inform that computers are maintained in offices that can be locked and are also protected by User IDs and passwords. “Notification Procedures” is being amended to explain where inquiries should be submitted for complaint case records and arbitration records concerning EEO claims filed by field, Headquarter, Headquarter Field Unit, and Inspection Service employees.

III. Description of Changes to Systems of Records

Pursuant to 5 U.S.C. 552a(e)(11), interested persons are invited to submit written data, views, or arguments on this proposal. A report of the proposed modifications has been sent to Congress and to the Office of Management and Budget for their evaluations. The Postal Service does not expect this amended system of records to have any adverse effect on individual privacy rights. The affected system is as follows: USPS 200.000

System Name: Labor Relations Records.

Accordingly, for the reasons stated, the Postal Service proposes changes in the existing system of records as follows:

USPS 200.000

SYSTEM NAME:

Labor Relations Records

* * * * *

CATEGORIES OF INDIVIDUALS COVERED BY THE SYSTEM

[CHANGE TO READ]

1. Current and former USPS employees, applicants for employment, third-party complainants, and mediators (other federal agency employees or contract employees) involved in EEO discrimination complaints and complaint processing.

2. USPS employees and contractors involved in labor arbitration.

[TEXT TO BE DELETED]

3. USPS employees who are candidates considered by promotion boards for an EEO staff position.

[CHANGE TO READ]

3. Individuals and organizations interested in providing alternative dispute resolution (ADR) services to all disputes, except those arising under USPS collective bargaining agreements.

4. Current providers and individuals interested in providing contract investigative services for EEO complaints and contract services for drafting final agency decisions concerning EEO complaints.

CATEGORIES OF RECORDS IN THE SYSTEM

[CHANGE TO READ]

1. EEO discrimination complaint case information: Individuals' names, Social Security Numbers, Employee Identification Number, postal assignment information, work contact information, home address(es) and phone number(s), email address(es), Veteran's Preference eligibility, finance number(s), duty location(s), case number, and other complaint, counseling, investigation, hearing, an appeal information describing the case.

2. Labor arbitration information: Records related to labor arbitration proceedings in which USPS is a party.

[TEXT TO BE DELETED]

3. EEO staff position information: Records related to candidates for EEO staff positions, including name, Social Security Number, Employee Identification Number, date of birth, postal assignment information, work contact information, finance number(s), duty location, and pay location.

[CHANGE TO READ]

3. Contractor provider information: Records related to mediation providers, contract investigators, and contract final agency decision writers including name of individual or entity, contact information, capabilities, and performance.

* * * * *

PURPOSE(S)

* * * * *

[TEXT TO BE DELETED]

3. To accomplish EEO staff selection.

[CHANGE TO READ]

3. To determine mediation service provider, contract investigator, and final agency decision writer qualifications.

* * * * *

SAFEGUARDS

[CHANGE TO READ]

Paper records and computer storage media are located in secure file cabinets within locked rooms or within locked filing cabinets. Computers are maintained in offices or rooms that can be locked when users are not present and their contents are protected by user IDs and passwords. Access to records is limited to individuals whose official duties require such access. Contractors and licensees are subject to contract controls and unannounced on-site audits and inspections. The use of computer systems is regulated with installed security software, computer logon identifications, and operating system controls including access controls, terminal and transaction logging, and file management software.

RETENTION AND DISPOSAL

[CHANGE TO READ]

1. EEO discrimination complaint case records: Precomplaint records are retained for 1 year after submission of a final report. Formal complaint records of closed cases are removed from the system of records quarterly, and retained as follows: Official files are retained for 4 years. Copies of official files are retained for 1 year. Background documents not in official files are retained for 2 years. Records of closed cases on computer storage media are removed for 3 years after the closure date and moved to an inactive file for future comparative analyses.

2. Labor arbitration records: Field-level disciplinary and contract application cases are retained for 5 years from the date of final decision. National-level contract interpretation cases and court actions are retained for 15 years from the date of expiration of the agreement.

3. EEO staff selection records: Staff selection records are retained for 3 years from the date the position became vacant.

4. ADR provider records: Records of active providers are retained for 1 year beyond the date the provider is removed from or voluntarily withdraws from the program or is otherwise notified of their decertification. Records of prospective providers who are rejected are retained for 1 year beyond the year in which their survey was received.

Records existing on paper are destroyed by burning, pulping, or shredding. Records existing on computer storage media are destroyed according to the applicable USPS media sanitization practice.

SYSTEM MANAGER(S) AND ADDRESS

[CHANGE TO READ]

Vice President, Labor Relations, United States Postal Service, 475 L'Enfant Plaza SW., Washington, DC 20260.

[TEXT TO BE DELETED]

For records of non REDRESS ADR staff providers: Senior Vice President, General Counsel, United States Postal Service, 475 L'Enfant Plaza SW., Washington, DC 20260.

NOTIFICATION PROCEDURE

[CHANGE TO READ]

Inquires about EEO discrimination complaint case records regarding claims filed by field employees must be submitted to the Manager, EEO Compliance and Appeals, located in the appropriate Regional Office, Eastern and Northeast Areas (Region 4)—8 Griffin Road North, Windsor CT 06095-1578, Southern and Capital Metro Areas (Region 3)—225 North Humphreys Blvd., Memphis TN 38166-0978, Southern and Great Lakes Areas (Region 2)—P.O. Box 223863, Dallas TX 75222-3663, and Pacific and Western Areas (Region 1)—P.O. Box 880546, San Francisco CA 94188-0546. Inquiries regarding claims filed by employees at Postal Service Headquarters and Headquarter Field Units and employees of the Inspection Service must be submitted to the Headquarters National EEO Compliance and Appeals Office at 475 L'Enfant Plaza SW., Washington DC 20260-4101. Inquiries must include complaint name, complainant Social Security Number or Employee Identification Number, location, and case number and year. Inquiries about labor arbitration records, mediator provider, contract investigator, and contract final agency decision writer records must be submitted to the system manager.

* * * * *

RECORD SOURCE CATEGORIES

[CHANGE TO READ]

For EEO discrimination complaint case information: Complainants, witnesses, investigators, and respondents. For labor arbitration records: Employees and other individuals involved in arbitration; counsel or other representatives for parties involved in a case; and arbitrators. For mediation provider, contract investigator, and final agency decision writer records, the service contract provider.

* * * * *

Stanley F. Mires,
Attorney, Federal Compliance.

[FR Doc. 2015-12672 Filed 5-26-15; 8:45 am]

BILLING CODE 7710-12-P